DEPARTMENT OF THE INTERIOR

National Park Service

[NPS-WASO-NRNHL-17478; PPWOCRADI0, PCU00RP14.R50000]

National Register of Historic Places; Notification of Pending Nominations and Related Actions

Nominations for the following properties being considered for listing or related actions in the National Register were received by the National Park Service before January 3, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by February 17, 2015. Before including your address, phone number, email address, or other personal identifying information in your comment, you should be aware that your entire comment—including your personal identifying information—may be made publicly available at any time. While you can ask us in your comment to withhold your personal identifying information from public review, we cannot guarantee that we will be able to do so.

Dated: January 15, 2015.
J. Paul Loether,
Chief, National Register of Historic Places/National Historic Landmarks Program.

MASSACHUSETTS

Hampshire County

Nashawannuck Mills Historic District, 1-15 Cottage St., Easthampton, 15000001

NEVADA

Clark County

Harrison's Guest House, 1001 F St., Las Vegas, 15000009

White Pine County

Nevada Northern Railway—McGill Depot, 1 N. Ave. K, McGill, 15000010

NEW JERSEY

Monmouth County

Arburtus Cottage, 508 4th Ave., Asbury Park, 15000003

Navesink Military Reservation, Grand Tour & Portland Rds., Hartshorne Woods Park, Middletown Township, 15000011

NEW YORK

Allegany County

Cuba Cemetery, Medbury Ave. opposite Union St., Cuba, 15000004

Erie County

Broadway Historic District, 5423-5658 Broadway, Lancaster, 15000005

Hamilton County

Grace Methodist Church Complex, 2895 NY 8, Speculator, 15000006

Monroe County

Cox—Budlong House, 4396 River Rd., Scottsville, 15000007

Schuyler County

Watkins Glen High School, 900 N. Decatur St., Watkins Glen, 15000008

VIRGINIA

Amherst County

Kenmore Farm, 369 Kenmore Rd., Amherst, 15000012

Buckingham County

Buckingham Training School, (Rosenwald Schools in Virginia MPS), 245 Camden St., Dillwyn, 15000013

Harrisonburg Independent city

Newtown Cemetery, Roughly bounded by Kelley, Hill, Sterling & Gay Sts., Harrisonburg (Independent City), 15000014

Henrico County

Farmer's Rest, 9341 Varina Rd., Henrico, 15000015

James City County

Amblers, 2205 Jamestown Rd., Jamestown, 15000016

Lee County

Sayers, William, Homestead, 110 Mabel Parkey Dr., Ewing, 15000017

Pittsylvania County

Creasy, Thomas Claiborne, House, 415 S. Main St., Gretna, 15000018

Russell County

Gilmer, Samuel, House, 2410 E. Main St., Lebanon, 15000019

Tazewell County

Tazewell Depot, 135 Railroad Ave., Tazewell, 15000020

WISCONSIN

Outagamie County

Eagle Paper and Flouring Mill, 600 Thilmany Rd., Kakauna, 15000021

[FR Doc. 2015-01860 Filed 1-30-15; 8:45 am]

BILLING CODE 4312-51-P